ENVIRONMENTAL PROTECTION AGENCY

40 CFR Part 52

[EPA-R09-OAR-2022-0926; FRL-10482-02-R9]

Clean Air Plans; 2015 8-Hour Ozone Nonattainment Area Requirements; Clean Fuels or Advanced Control Technology for Boilers; San Joaquin Valley and Los Angeles—South Coast Air Basin, California

AGENCY: Environmental Protection Agency (EPA).

ACTION: Final rule.

SUMMARY: The Environmental Protection Agency (EPA) is taking final action to approve revisions to the California State Implementation Plan (SIP) concerning the provisions for clean fuels or advanced control technology for boilers for the 2015 ozone national ambient air quality standards (“2015 ozone NAAQS”) in the San Joaquin Valley and Los Angeles—South Coast Air Basin, California (“South Coast”) ozone nonattainment areas. The SIP revisions include the “Certification that the San Joaquin Valley Unified Air Pollution Control District's Current Rules Address the Clean Air Act's Clean Fuels for Boilers Requirements for the 2015 8-hour Ozone Standard” for San Joaquin Valley (“2021 San Joaquin Valley Certification”) and the “Clean Fuels for Boilers Compliance Demonstration for the South Coast Air Basin” for South Coast (“2021 South Coast Certification”), both submitted on August 3, 2021. We are approving these revisions under the Clean Air Act (CAA or “the Act”), which establishes clean fuels or advanced control technology for boilers requirements for “Extreme” ozone nonattainment areas.

DATES: This rule is effective June 7, 2023.

ADDRESSES: The EPA has established a docket for this action under Docket ID No. EPA-R09-OAR-2022-0926. All documents in the docket are listed on the https://www.regulations.gov website. Although listed in the index, some information is not publicly available, e.g., confidential business information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Khoi Nguyen, EPA Region IX, 75 Hawthorne Street, San Francisco, CA 94105. By phone: (415) 947-4120 or by email at nguyen.khoi@epa.gov.

SUPPLEMENTARY INFORMATION: Throughout this document, “we,” “us,” and “our” refer to the EPA.

Table of Contents

I. Proposed Action

II. Public Comments and EPA Responses

III. EPA Action

IV. Statutory and Executive Order Reviews

I. Proposed Action

On January 30, 2023, the EPA proposed to approve as a revision to the California SIP the provisions in the San Joaquin Valley and South Coast for clean fuels or advanced control technology for boilers as meeting the requirements of CAA section 182(e)(3) and 40 CFR 51.1302.¹ Our proposed approval was based on our evaluation of the 2021 San Joaquin Valley Certification and the 2021 South Coast Certification. In our proposed rulemaking, we provided background information on the 2015 ozone standards, area designations in California, and related clean fuels for boilers SIP revision requirements. Table 1 of this document lists the certifications addressed by our proposed action.

¹ 88 FR 5835 (January 30, 2023).

Table 1—Clean Fuels for Boilers Certifications Submitted as Revisions to the California SIP
District | Nonattainment area | Date adopted | Title
San Joaquin Valley Air Pollution Control District | San Joaquin Valley | June 17, 2021 | Certification that the San Joaquin Valley Unified Air Pollution Control District's Current Rules Address the Clean Air Act's Clean Fuels for Boilers Requirements for the 2015 8-Hour Ozone Standard.
South Coast Air Quality Management District | South Coast Air Basin | June 4, 2021 | Clean Fuels for Boilers Compliance Demonstration for the South Coast Air Basin.ᵃ
ᵃ The “Clean Fuels for Boilers Compliance Demonstration for the South Coast Air Basin” is part of the document titled “Final Certification of Nonattainment New Source Review and Clean Fuels for Boilers Compliance Demonstration for 2015 8-hour Ozone Standard.” The latter document consists of two demonstrations: (1) Nonattainment New Source Review (NSR) Compliance Demonstration for the South Coast Air Basin and the Coachella Valley and (2) Clean Fuels for Boilers Compliance Demonstration for the South Coast Air Basin. In the proposed action, we were evaluating and proposing action on the “Clean Fuels for Boilers Compliance Demonstration for the South Coast Air Basin.”

In this rulemaking, we are taking final action to approve the 2021 San Joaquin Valley Certification and the 2021 South Coast Certification. Please refer to our proposed rule for more information concerning the background for this action and for a more detailed discussion of the rationale for approval.

II. Public Comments and EPA Responses

The EPA's proposed action provided a 30-day public comment period. During this period, the EPA received one anonymous comment unrelated to the rulemaking. The EPA has determined that the comment fails to raise issues germane to our proposed finding that the two submitted certifications satisfy the requirements of CAA section 182(e)(3) and 40 CFR 51.1302. Therefore, we have determined that this comment does not necessitate a response, and the EPA will not provide a specific response to the comment in this document. The full text of the comment is available in the docket for this rulemaking.

III. EPA Action

No comments were submitted that change our assessment of the two certifications as described in our proposed action. Therefore, as authorized in section 110(k)(3) of the CAA, the EPA is taking final action to approve as a revision to the California SIP the 2021 San Joaquin Valley Certification and the 2021 South Coast Certification, both submitted on August 3, 2021. Specifically, the elements we are approving are:

• Provisions in the San Joaquin Valley for clean fuels or advanced control technology for boilers as meeting the requirements of CAA section 182(e)(3) and 40 CFR 51.1302 based on the 2021 San Joaquin Valley Certification; and

• Provisions in the South Coast for clean fuels or advanced control technology for boilers as meeting the requirements of CAA section 182(e)(3) and 40 CFR 51.1302 based on the 2021 South Coast Certification.

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves the certifications as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The State did not evaluate environmental justice considerations as part of its SIP submittal; the CAA and applicable implementing regulations neither prohibit nor require such an evaluation. The EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for people of color, low-income populations, and Indigenous peoples.

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by July 7, 2023. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Authority: 42 U.S.C. 7401 et seq.

Dated: April 25, 2023.
Martha Guzman Aceves,
Regional Administrator, Region IX.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart F—California

2. Section 52.220 is amended by revising paragraph (c)(591) introductory text and adding paragraph (c)(591)(ii) to read as follows:

§ 52.220 Identification of plan—in part.

* * * * *

(c) * * *

(591) The following rules and certifications were submitted on August 3, 2021, by the Governor's designee, as an attachment to a letter dated August 3, 2021.

* * * * *

(ii) Additional materials. (A) San Joaquin Valley Unified Air Pollution Control District.

(1) “Certification that the San Joaquin Valley Unified Air Pollution Control District's Current Rules Address the Clean Air Act's Clean Fuels for Boilers Requirements for the 2015 8-Hour Ozone Standard,” adopted on June 17, 2021.

(2) [Reserved]

(B) South Coast Air Quality Management District.

(1) “Final Certification of Nonattainment New Source Review and Clean Fuels for Boilers Compliance Demonstration for 2015 8-hour Ozone Standard,” excluding the “Nonattainment New Source Review Compliance Demonstration,” adopted on June 4, 2021.

(2) [Reserved]

* * * * *

[FR Doc. 2023-09058 Filed 5-5-23; 8:45 am]

BILLING CODE 6560-50-P